GENERAL SERVICES ADMINISTRATION

[Proposed GSA Bulletin FTR 10-XXX; Docket 2010-0009; Sequence 1]

Federal Travel Regulation; Relocation Allowances; Standard Data Dictionary for Collection of Transaction-Level Data Regarding Employee Relocation

AGENCY: Office of Governmentwide Policy, General Services Administration (GSA).

ACTION: Notice of a proposed bulletin.

SUMMARY: This notice announces that GSA is posting online a proposed FTR bulletin that contains the data dictionary that large Federal agencies must use in collecting data regarding employee relocation and in reporting such data to GSA. Proposed GSA Bulletin FTR 10-XXX may be viewed on GSA's Web site at http://www.gsa.gov/relopolicy. By this Notice, GSA is seeking comment on the proposed bulletin. After a review of the comments received, a final bulletin will be posted on the GSA Web site and will be announced in the Federal Register.

DATES: Comments must be received on or before June 1, 2010.

ADDRESSES: Submit comments identified by Proposed GSA Bulletin FTR 10-XXX, by any of the following methods:

• Regulations.gov: http://www.regulations.gov. Submit comments via the Federal eRulemaking portal by inputting “Proposed GSA Bulletin FTR 10-XXX” under the heading “Enter Keyword or ID” and selecting “Search.” Select the link “Submit a Comment” that corresponds with “Proposed GSA Bulletin FTR 10-XXX.” Follow the instructions provided at the “Submit a Comment” screen. Please include your name, company name (if any), and “Proposed GSA Bulletin FTR 10-XXX” on your attached document.

• Fax: 202-501-4067.

• Mail: General Services Administration, Regulatory Secretariat (MVCB), 1800 F Street, NW., Room 4041, ATTN: Hada Flowers, Washington, DC 20405.

Instructions: Please submit comments only and cite Proposed GSA Bulletin FTR 10-XXX in all correspondence related to this case. All comments received will be posted without change to http://www.regulations.gov, including any personal and/or business confidential information provided.

FOR FURTHER INFORMATION CONTACT: For further information, contact Mr. Henry Maury, Office of Governmentwide Policy (M), Office of Travel, Transportation, and Asset Management (MT), General Services Administration at (202) 208-7928 or via e-mail at henry.maury@gsa.gov.

Dated: April 16, 2010.
Becky Rhodes,
Deputy Associate Administrator.

[FR Doc. 2010-10206 Filed 4-29-10; 8:45 am]

BILLING CODE 6820-14-P